DEPARTMENT OF COMMERCE

Submission for OMB Review; Comment Request

DOC has submitted to the Office of Management and Budget (OMB) for clearance the following proposal for collection of information under the provisions of the Paperwork Reduction Act (44 U.S.C. Chapter 35).

Agency: Bureau of Economic Analysis.

Title: Annual Survey of Selected Services Transactions With Unaffiliated Foreign Persons.

Form Number(s): BE-22.

Agency Approval Number: 0608-0060.

Type of Request: Extension of a currently approved collection without any change in the substance or in method of collection.

Burden: 17,250 hours.

Number of Respondents: 1,500.

Avg Hours Per Response: 11.5.

Needs and Uses: The Government requires data from the BE-22 annual survey to obtain reliable and up-to-date information on selected U.S. services transactions with unaffiliated foreign persons, by type of service cross-classified by foreign country. The data will update the results of the BE-20 benchmark survey, which covers the universe of such transactions. The BE-20 is conducted once every five years, and the last survey covered 1996. A BE-22 survey is conducted each of the four years between two benchmark surveys; the last BE-22 covered 1999. Some of the major purposes of the survey are to provide information needed in formulating U.S. international trade agreements, compile the U.S. international transactions and national income and product accounts, assess and promote U.S. competitiveness in international trade in services, and improve the ability of U.S. businesses to identify and evaluate market opportunities.

Affected Public: Businesses and other for-profit and not-for-profit institutions, State and local governments, or other institutions engaging in international transactions in the covered services.

Frequency: Annual.

Respondent's Obligation: Mandatory.

Legal Authority: Title 22 U.S.C., Sections 3101-3108, as amended.

OMB Desk Officer: Paul Bugg, (202) 395-3093.

Copies of the above information collection proposal can be obtained by calling or writing DOC Forms Clearance Officer, Madeleine Clayton, (202) 482-3129, Department of Commerce, Room 6086, 14th and Constitution Avenue, NW, Washington DC 20230 or by E-mail to MClayton@doc.gov.

Written comments and recommendations for the proposed information collection should be sent within 30 days of publication of this notice to Paul Bugg, OMB Desk Officer, Room 10201, New Executive Office Building, Washington DC 20503.

Dated: October 27, 2000.
Madeleine Clayton,
Departmental Forms Clearance Officer, Office of the Chief Information Officer.

[FR Doc. 00-28020 Filed 10-31-00; 8:45 am]

BILLING CODE 3510-06-P